DEPARTMENT OF EDUCATION

34 CFR Part 75

Final Waiver and Extension of the Project Period; Regional Interpreter Education Centers for the Training of Interpreters for Individuals Who Are Deaf or Hard of Hearing and Individuals Who Are Deaf-Blind

AGENCY: Rehabilitation Services Administration (RSA), Office of Special Education and Rehabilitative Services, Department of Education.

ACTION: Final waiver and extension of the project period.

[Catalog of Federal Domestic Assistance (CFDA) Number: 84.160A]

SUMMARY: The Secretary waives the requirements that generally prohibit project periods exceeding five years and extensions of project periods involving the obligation of additional Federal funds for five 60-month projects initially funded in fiscal year (FY) 2010. The Secretary also extends the project period for these projects for one year. This waiver and extension enables the currently funded Regional Interpreter Education Centers for the training of interpreters for individuals who are deaf or hard of hearing and individuals who are deaf-blind (Regional Centers) to receive funding through September 30, 2016.

DATES: The waiver and extension of the project period are effective July 30, 2015.

FOR FURTHER INFORMATION CONTACT: Kristen Rhinehart-Fernandez, U.S. Department of Education, 400 Maryland Avenue SW., Room 5027, Potomac Center Plaza, Washington, DC 20202-2800. Telephone: (202) 245-6103 or by email: Kristen.Rhinehart@ed.gov.

If you use a telecommunications device for the deaf or a text telephone, call the Federal Relay Service, toll-free, at 1-800-877-8339.

SUPPLEMENTARY INFORMATION: On April 17, 2015, the Department published a notice in the Federal Register (80 FR 21195) proposing an extension of the project period and a waiver of 34 CFR 75.250 and 34 CFR 75.261(c)(2) (proposed waiver and extension) in order to—

(1) Enable the Secretary to provide additional funds to the Regional Centers for an additional 12-month period, from September 30, 2015, through September 30, 2016; and

(2) Invite comments on the proposed waiver and extension.

There are no substantive differences between the proposed waiver and extension and this final waiver and extension.

Public Comment: In response to our invitation in the proposed waiver and extension, two parties submitted comments.

Analysis of Comments and Changes: An analysis of the comments received in response to the proposed waiver and extension and of any changes in the waiver and extension since publication of the proposed waiver and extension follows.

Comment: Two commenters supported extending the Regional Centers' project period for one year to avoid the loss of an essential source of training and training materials tailored to the needs of the five regions served.

Discussion: We appreciate the commenters' support.

Changes: None.

Final Waiver and Extension

In the proposed waiver and extension, we discuss the background and purposes of the Regional Centers and our reasons for proposing the waiver and extension. For the reasons discussed there, we conclude that it would be contrary to the public interest to have a lapse in the provision of the training currently provided by the Regional Centers. Allowing funding to lapse before a new interpreter education delivery system can be implemented would leave individuals who are deaf or hard of hearing and individuals who are deaf-blind without necessary supports in the event that critical needs arise.

The Secretary waives the requirements in 34 CFR 75.250, which prohibit project periods exceeding five years, and the requirements in 34 CFR 75.261(c)(2), which limits the extension of a project period if the extension involves the obligation of additional Federal funds. This will allow the five current grantees to request and continue to receive Federal funding through September 30, 2016. With this waiver and extension of the project period, each Regional Center will be required to develop a plan to demonstrate how it will continue to carry out activities during the year of the continuation award consistent with the scope, goals, and objectives of the grantee's application as approved in the 2010 competition. These plans must be submitted to RSA for review and approval by September 1, 2015.

Waiver of Delayed Effective Date

The Administrative Procedure Act requires that a substantive rule must be published at least 30 days before its effective date, except as otherwise provided for good cause (5 U.S.C. 553(d)(3)). We have not made any substantive changes to the proposed waiver and extension. The Secretary has therefore determined to waive the delayed effective date to ensure timely continuation grants to the entities affected and continuation of the valuable services the Regional Centers provide.

Regulatory Flexibility Act Certification

The Secretary certifies that this final waiver and extension of the project period will not have a significant economic impact on a substantial number of small entities. The only entities that will be affected are the five current grantees receiving Federal funds to serve as the Regional Centers and any other potential applicants.

The Secretary certifies that the waiver and extension will not have a significant economic impact on these entities because the extension of an existing project period imposes minimal compliance costs, and the activities required to support the additional year of funding will not impose additional regulatory burdens or require unnecessary Federal supervision.

Paperwork Reduction Act of 1995

This final waiver and extension of the project period does not contain any information collection requirements.

Intergovernmental Review

This program is subject to Executive Order 12372 and the regulations in 34 CFR part 79. However, under 34 CFR 79.8(a), we waive intergovernmental review in order to make awards by the end of FY 2015.

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: July 27, 2015.
Michael K. Yudin,
Assistant Secretary for Special Education and Rehabilitative Services.

[FR Doc. 2015-18726 Filed 7-29-15; 8:45 am]

BILLING CODE 4000-01-P